DEPARTMENT OF DEFENSE

Office of the Secretary

[Transmittal No. 23-75]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(1) arms sales notification is published to fulfill the requirements of section 155 of Public Law 104-164 dated July 21, 1996. The following is a copy of a letter to the Speaker of the House of Representatives with attached Transmittal 23-75, Policy Justification, and Sensitivity of Technology.

Dated: November 14, 2024.
Stephanie J. Bost,
Alternate OSD Federal Register Liaison Officer, Department of Defense.

BILLING CODE 6001-FR-P

BILLING CODE 6001-FR-C

Transmittal No. 23-75

Notice of Proposed Issuance of Letter of Offer Pursuant to Section 36(b)(1) of the Arms Export Control Act, as amended

(i) Prospective Purchaser: Government of Lithuania

(ii) Total Estimated Value:

Major Defense Equipment * | $ 75.9 million
Other | $ 24.1 million
TOTAL | $100.0 million

Funding Source: National Funds

(iii) Description and Quantity or Quantities of Articles or Services under Consideration for Purchase:

Major Defense Equipment (MDE):

Thirty-six (36) AIM-120C-8 Advanced Medium Range Air-to-Air Missiles (AMRAAM)

One (1) AIM-120C-8 AMRAAM Guidance Section

Non-MDE:

Also included are Common Munitions Built-In-Test (BIT)/Reprogramming Equipment (CMBRE); ADU-891/E adapter group computer test sets; AIM-120 spare control sections and containers; other spare parts, consumables, accessories, and repair/return support; munitions support and support equipment; classified software delivery and support; classified and unclassified publications and technical documentation; contractor logistics support (CLS); personnel training and training equipment; studies and surveys; transportation support; United States (U.S.) Government and contractor engineering, technical, and logistics support services; and other related elements of logistics and program support.

(iv) Military Department: Air Force (LH-D-YAA)

(v) Prior Related Cases, if any: LH-D-QAD

(vi) Sales Commission, Fee, etc., Paid, Offered, or Agreed to be Paid: None known at this time

(vii) Sensitivity of Technology Contained in the Defense Article or Defense Services Proposed to be Sold: See Attached Annex

(viii) Date Report Delivered to Congress: October 23, 2023

* As defined in Section 47(6) of the Arms Export Control Act.

POLICY JUSTIFICATION

Lithuania—AIM-120C-8 Advanced Medium-Range Air-to-Air Missiles (AMRAAM)

The Government of Lithuania has requested to buy thirty-six (36) AIM-120C-8 Advanced Medium Range Air-to-Air Missiles (AMRAAM); and one (1) AIM-120C-8 AMRAAM Guidance Section. Also included are Common Munitions Built-In-Test (BIT)/Reprogramming Equipment (CMBRE); ADU-891/E adapter group computer test sets; AIM-120 spare control sections and containers; other spare parts, consumables, accessories, and repair/return support; munitions support and support equipment; classified software delivery and support; classified and unclassified publications and technical documentation; CLS; personnel training and training equipment; studies and surveys; transportation support; U.S. Government and contractor engineering, technical, and logistics support services; and other related elements of logistics and program support. The estimated total cost is $100 million.

This proposed sale will support the foreign policy and national security of the U.S. by helping to improve the security of a NATO Ally that is an important force for ensuring peace and stability in Europe.

This proposed sale will be for use with the National Advanced Surface-to-Air Missile System (NASAMS) and will improve Lithuania's capability to conduct self-defense and regional security missions while enhancing interoperability with the U.S. and other NATO members. Lithuania will have no difficulty absorbing these articles and services into its armed forces.

The proposed sale of this equipment and support will not alter the basic military balance in the region.

The principal contractor will be Raytheon Missiles and Defense, Tucson, AZ. There are no known offset agreements proposed in connection with this potential sale.

Implementation of this proposed sale will not require the assignment of any additional U.S. Government or contractor representatives to Lithuania.

There will be no adverse impact on U.S. defense readiness as a result of this proposed sale.

Transmittal No. 23-75

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-launched, aerial intercept guided missile featuring digital technology and micro-miniature solid-state electronics. AMRAAM capabilities include look-down/shoot-down, multiple launches against multiple targets, resistance to electronic countermeasures, and interception of high and low-flying and maneuvering targets. This potential sale will include a spare AMRAAM guidance section as well as spare control sections and containers.

2. The Common Munitions Built-In-Test (BIT)/Reprogramming Equipment (CMBRE) is supporting equipment used to interface with weapon systems to initiate and report BIT results, and upload/download flight software. CMBRE supports multiple munitions platforms with a range of applications that perform preflight checks, periodic maintenance checks, loading of Operational Flight Program (OFP) data, loading of munitions mission planning data, loading of Global Positioning System (GPS) cryptographic keys, and declassification of munitions memory.

3. The ADU-891 Adapter Group Test Set provides the physical and electrical interface between the CMBRE and the missile.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Lithuania can provide substantially the same degree of protection for the sensitive technology being released as the U.S. Government. This sale is necessary in furtherance of the U.S. foreign policy and national security objectives outlined in the Policy Justification.

7. All defense articles and services listed in this transmittal have been authorized for release and export to Lithuania.

[FR Doc. 2024-26986 Filed 11-19-24; 8:45 am]

BILLING CODE 6001-FR-P